DEPARTMENT OF TRANSPORTATION

Federal Railroad Administration

Notice of Application for Approval of Discontinuance or Modification of a Railroad Signal System or Relief From Requirements.

Pursuant to Title 49 Code of Federal Regulations (CFR) part 235 and 49 U.S.C. 20502(a), the following railroads have petitioned the Federal Railroad Administration (FRA) seeking approval for the discontinuance or modification of the signal system or relief from the requirements of 49 CFR part 236 as detailed below.

[Docket Number FRA-2002-11501]

Applicant: Rail America, Incorporated, Saginaw Valley Railway and Huron & Eastern Railway, Mr. Larry Ross, General Manager, 101 Enterprise Drive, Vassar, Michigan 48768.

Rail America Incorporated seeks approval of the proposed discontinuance and removal of the automatic interlocking near Vassar, Michigan, were the single main track of the Saginaw Valley Railway's Brown City Line, at milepost 19.70, crosses at grade with the Huron and Eastern Railway's Millington Industrial Spur, at milepost 85.95. The proposed changes include the discontinuance and removal of all associated signals, and installation of a swing gate with two stop signs and locks governed by operating rules.

The reasons given for the proposed changes is the severe reduction in traffic and it is not feasible to justify the high maintenance costs required of the antiquated equipment used.

Any interested party desiring to protest the granting of an application shall set forth specifically the grounds upon which the protest is made, and contain a concise statement of the interest of the party in the proceeding. Additionally, one copy of the protest shall be furnished to the applicant at the address listed above.

All communications concerning this proceeding should be identified by the docket number and must be submitted to the Docket Clerk, DOT Central Docket Management Facility, Room PI-401, Washington, DC 20590-0001. Communications received within 45 days of the date of this notice will be considered by the FRA before final action is taken. Comments received after that date will be considered as far as practicable. All written communications concerning these proceedings are available for examination during regular business hours (9:00 a.m.-5:00 p.m.) at DOT Central Docket Management Facility, Room PI-401 (Plaza Level), 400 Seventh Street, SW., Washington, DC 20590-0001. All documents in the public docket are also available for inspection and copying on the internet at the docket facility's Web site at http://dms.dot.gov.

FRA expects to be able to determine these matters without an oral hearing. However, if a specific request for an oral hearing is accompanied by a showing that the party is unable to adequately present his or her position by written statements, an application may be set for public hearing.

Issued in Washington, DC on March 26, 2002.
Grady C. Cothen, Jr.,
Deputy Associate Administrator for Safety Standards and Program Development.

[FR Doc. 02-7821 Filed 4-1-02; 8:45 am]

BILLING CODE 4910-06-P